DEPARTMENT OF ENERGY

Hydrogen Technical Advisory Panel; Meeting

AGENCY: Department of Energy.

ACTION: Notice of open meeting.

SUMMARY: This notice announces a meeting of the Hydrogen Technical Advisory Panel (HTAP). Federal Advisory Committee Act (Public Law No. 92-463, 86 Stat. 770, as amended), requires that public notice of these meetings be announced in the Federal Register.

DATES: Monday, March 5, 2001, 8:30 a.m.-6:00 p.m. Tuesday, March 6, 2001, 8:30 a.m.-12:30 p.m.

ADDRESSES: Wardman Park Hotel Marriott Hotel, 2660 Woodley Road, Washington, DC 20007, Telephone: 202-328-2000.

FOR FURTHER INFORMATION CONTACT: Neil Rossmeissl, Designated Federal Officer, Hydrogen Program Manager, EE-15, Office of Power Technologies, Department of Energy, Washington, D.C. 20585; Telephone: 202-586-8668.

SUPPLEMENTARY INFORMATION: Purpose of the Meeting: The major purpose of this meeting will be to hold a discussion on Hydrogen and the National Energy Agenda:

Tentative Agenda

Monday, March 5, 2001

8:30 Welcome, Introduction of New Members; D. Nahmias

8:45 The National Energy Agenda (Session 1); D. Nahmias

9:15 The Role of Technical Advisory Panels; J. Tester

9:45 A Global Business Perspective; J. Rinker

10:15 Break

10:45 The National Energy Agenda (Session 2); D. Nahmias

The Role of Industry Associations; B. Mauro

11:00 The Role of Education and Public Outreach; G. Salinger

11:20 The DOE Perspective; J. Daley

11:40 The Congressional Perspective; Sen. Akaka's office

12:00 Discussion and Deliberation;

The National Energy Agenda: HTAP's Role; Panel

12:30 Lunch

1:30 Federal Agency Coordination; N. Rossmeissl

DOE/Office of Transportation Technologies; S. Chalk

DOE Distributed Energy Resources; P. Hoffman

DOE Office of Fossil Energy; F. Brown

DOT/FTA; S. Hsiung

3:00 Break

3:30 Hydrogen Safety: A Key Issue; G. Schmauch, A. Vasys

4:15 Education and Outreach Activities; M. Valladares

4:45 Adjourn

6:00 Reception (Open to the Public)

Tuesday, March 6, 2001

8:30 Welcome; D. Nahmias

8:40 HTAP R&D Success Story; TBD

9:10 DOE Program Issues; S. Gronich

Validation Projects; C. Bordeaux

Systems Analysis; M. Mann

10:15 Break

10:45 HTAP Committee Reports;

Coordination Committee; H. Chum

Fuel Choice; R. Nichols

Scenario Planning; H. Wedaa

11:15 Election of New Chair; D. Nahmias

11:25 Outgoing Chairman's Remarks; D. Nahmias

11:45 HTAP Deliberations; Panel

12:30 Public Comments (5 minutes maximum per speaker); Audience

1:00 PM Adjourn

Public Participation: This meeting is open to the public. Written statements may be filed with the Committee either before or after the meeting. Individuals who wish to make oral statements pertaining to agenda items should contact Mr. Neil Rossmeissl's office at the address or telephone number listed above. Requests must be received 5 days prior to the meeting and reasonable provision will be made to include the presentations in the agenda. The Designated Federal Officer is empowered to conduct the meeting in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, SW. Washington, DC 20585 between 9:00 A.M. and 4:00 P.M., Monday through Friday, except Federal Holidays. Minutes will also be available by writing to Neil Rossmeissl, Department of Energy, 1000 Independence Avenue, SW. Washington, DC 20585, or by calling (202) 586-8668.

Issued at Washington, DC on February 9, 2001.
Rachel Samuel,
Deputy Advisory Committee Management Officer.

[FR Doc. 01-3724 Filed 2-13-01; 8:45 am]

BILLING CODE 6450-01-P